DEPARTMENT OF COMMERCE

National Oceanic and Atmospheric Administration

[I.D.022800A]

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council and the New England Fishery Management Council Scientific and Statistical Committees (SSC) will hold a joint public meeting.

DATES: The meeting will be held on Monday, March 13, 2000, from 10:00 a.m.- 5:00 p.m.

ADDRESSES: This meeting will be held at the Sheraton International Hotel at Baltimore International Airport, 7032 Elm Road, Baltimore, MD; telephone 410-859-3300.

Council address: Mid-Atlantic Fishery Management Council, 300 S. New Street, Dover, DE 19904, telephone 302-674-2331.

FOR FURTHER INFORMATION CONTACT: Daniel T. Furlong, Executive Director, Mid-Atlantic Fishery Management Council; telephone: 302-674-2331, ext. 19.

SUPPLEMENTARY INFORMATION: The Mid-Atlantic and New England Fishery Management Councils recently initiated management of spiny dogfish (Squalus acanthias) pursuant to the Magnuson-Stevens Fishery Conservation and Management Act of 1976 as amended by the Sustainable Fisheries Act through the development of the Spiny Dogfish Fishery Management Plan (FMP). The New England and Mid-Atlantic Fishery Management Councils adopted recommendations relative to second year management measures for spiny dogfish at their respective meetings in November and December 1999. The Councils failed to reach agreement relative to the preferred measures for spiny dogfish in 2000-2001. As such, the respective measures recommended by each Council were presented to the Regional Administrator. The FMP specifies that the Regional Administrator shall review the recommendations and, if necessary, may modify the annual quota and other management measures to assure that the target F specified in the FMP will not be exceeded. The Regional Administrator may modify the recommendations using any of the measures that were not rejected by both Councils.

The purpose of the joint SSC meeting is to provide scientific peer review of analyses relating to alternative management measures for spiny dogfish not considered by the Councils during the quota setting process for the fishing year 2000-2001. The measures may include quotas, seasons, trip limits or any other measure or set of measures specified in the FMP. In addition, alternative stock rebuilding targets and schedules, as well as analyses of discard mortality, may be presented and reviewed.

Although non-emergency issues not contained in this agenda may come before the Committees for discussion, these issues may not be the subject of formal Committee action during this meeting. Committee action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Joanna Davis at the Mid-Atlantic Council (see ADDRESSES) at least 5 days prior to the meeting date.

Dated: February 28, 2000.
Richard W. Surdi,
Acting Director, Office of Sustainable Fisheries, National Marine Fisheries Service.

[FR Doc. 00-5068 Filed 3-1-00; 8:45 am]

BILLING CODE 3510-22-F